DEPARTMENT OF LABOR

Employment and Training Administration

[TA-W-50,340]

Lear Corporation, Electrical and Electronics Division (LEED), Plant 074, Peru, IN; Notice of Negative Determination Regarding Application for Reconsideration

By application of April 28, 2003, the Paper, Allied-Industrial, Chemical & Energy Workers International Union requested administrative reconsideration of the Department's negative determination regarding eligibility to apply for Trade Adjustment Assistance (TAA), applicable to workers and former workers of the subject firm. The denial notice was signed on March 17, 2003, and published in the Federal Register on April 2, 2003 (68 FR 16093).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Lear Corporation Electrical and Electronics Division (LEED), Plant 074, Peru, Indiana was denied because the “contributed importantly” group eligibility requirement of Section 222(3) of the Trade Act of 1974, as amended, was not met. The “contributed importantly” test is generally demonstrated through a survey of customers of the workers' firm. The survey revealed that none of the respondents increased their purchases of imported plastic parts for automotive fuse boxes and wire harnesses. The company did not import plastic parts for automotive fuse boxes and wire harnesses in the relevant period nor did it shift production to a foreign source.

The union asserts that the company shifted production to Mexico, and most specifically alleges that a specific part number (#90142) is currently being made at a Mexican facility.

Further investigation, including contact with the company, revealed that the part specified was shifted to another domestic facility. Further, a company official reconfirmed what was established in the original investigation; no production was shifted from the Peru, Indiana facility to a foreign source.

Conclusion

After review of the application and investigative findings, I conclude that there has been no error or misinterpretation of the law or of the facts which would justify reconsideration of the Department of Labor's prior decision. Accordingly, the application is denied.

Signed at Washington, DC this 5th day of June, 2003.
Elliott S. Kushner,
Certifying Officer, Division of Trade Adjustment Assistance.

[FR Doc. 03-15472 Filed 6-18-03; 8:45 am]

BILLING CODE 4510-30-P